CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed renewal of the Current Population Survey (CPS) Civic Engagement Supplement. Copies of the information collection request can be obtained by contacting the office listed in the addresses section of this notice.

DATES: Written comments must be submitted to the individual and office listed in the ADDRESSES section by August 16, 2011.

ADDRESSES: You may submit comments, identified by the title of the information collection activity, by any of the following methods:

(1) By mail sent to: Corporation for National and Community Service, Office of Strategy and Special Initiatives, Attention Nathan Dietz, Room 10907; 1201 New York Avenue, NW., Washington, DC 20525.

(2) By hand delivery or by courier to the Corporation's mailroom at Room 8100 at the mail address given in paragraph (1) above, between 9 a.m. and 4 p.m. Eastern Time, Monday through Friday, except Federal holidays.

(3) By fax to: (202) 606-3464.

(4) Electronically through http://www.regulations.gov. Individuals who use a telecommunications device for the deaf (TTY-TDD) may call 1-800-833-3722 between 8 a.m. and 8 p.m. Eastern Time, Monday through Friday.

FOR FURTHER INFORMATION CONTACT: Nathan Dietz, (202) 606-6633, or by e-mail at ndietz@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation plans to request clearance for the collection of data concerning the Civic Engagement Supplement, to be conducted by the U.S. Census Bureau in conjunction with the annual November Current Population Survey (CPS). In even-numbered years since 2008, the November CPS has included the Voting Supplement as well as the Civic Engagement Supplement; in odd-numbered years, the November CPS has only one supplement, the Civic Engagement Supplement.

The Corporation uses the Civic Engagement Supplement to collect data for the Civic Health Assessment, an annual report that is mandated by the Serve America Act. The Civic Engagement Supplement provides information on the extent to which American communities are places where individuals are civically active. It also provides information on the number of Americans who are active in their communities, communicating with one another on issues of public concern, and interacting with public institutions and private enterprises.

The supplement also provides data on Americans who engage in activities that promote positive relationships with those of equal and differing socioeconomic or professional levels. This survey is the only source of nationally representative data on such information as: Level of participation in organized groups, extent of political action and knowledge, extent of connections with other community members, and how often individuals get news and information from various media sources.

When combined with demographic characteristics (age, sex, race, education, occupation, income), the data provides information on the relationship between these characteristics and the level of civic engagement in the United States. Government agency analysts and private, state and local leaders have use the data to compare levels specific to their geographic area to the national level of civic engagement, and to formulate policies that foster healthy communities.

Current Action

The Corporation seeks to renew the current information collection that is currently cleared under control number 0607-0466, by the Census Bureau. The information collected under this clearance will be used in the same manner as under the existing clearance.

Type of Review: Renewal.

Agency: Corporation for National and Community Service.

Title: Current Population Survey Civic Engagement Supplement

OMB Number: 0607-0466 [existing Census clearance number].

Agency Number: None.

Affected Public: Individuals or households.

Total Respondents: 54,000.

Frequency: Annual.

Average Time per Response: Ten minutes per household.

Estimated Total Burden Hours: 9,000.

Total Burden Cost (capital/startup): None.

Total Burden Cost (operating/maintenance): None.

Comments submitted in response to this notice will be summarized and/or included in the request for Office of Management and Budget approval of the information collection request; they will also become a matter of public record.

Dated: June 13, 2011.
Heather Peeler,
Chief Strategy Officer.

[FR Doc. 2011-15037 Filed 6-16-11; 8:45 am]

BILLING CODE 6050-$$-P